DEPARTMENT OF HEALTH AND HUMAN SERVICES

Centers for Disease Control and Prevention

[30Day-23-0004]

Agency Forms Undergoing Paperwork Reduction Act Review

In accordance with the Paperwork Reduction Act of 1995, the Centers for Disease Control and Prevention (CDC) has submitted the information collection request titled “National Disease Surveillance Program II. Disease Summaries” to the Office of Management and Budget (OMB) for review and approval. CDC previously published a “Proposed Data Collection Submitted for Public Comment and Recommendations” notice on September 16, 2022 to obtain comments from the public and affected agencies. CDC received 2 comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Disease Surveillance Program II. Disease Summaries (OMB Control No. 0920-0004)—Reinstatement—National Center for Immunization and Respiratory Diseases (NCIRD), Centers for Disease Control and Prevention (CDC).

Background and Brief Description

CDC requests a three year approval for the Reinstatement of the National Disease Surveillance Program II. Disease Summaries information collection. As with the previous approval, these data are essential for measuring trends in diseases, evaluating the effectiveness of current preventive strategies, and determining the need to modify current preventive measures. Diseases included in this surveillance program are Influenza Virus, Caliciviruses, Respiratory and Enteric Viruses, Arthropod-Borne Diseases, Parechoviruses and Enteroviruses. The proposed Reinstatement with Change includes eight influenza forms, Suspect Respiratory Virus Patient Form, Middle East Respiratory Syndrome Coronavirus (MERS) Patient Under Investigation (PUI) Form, Viral Gastroenteritis Outbreak Submission Form, National Respiratory and Enteric Virus Surveillance System (NREVSS) Laboratory Assessment, and National Enterovirus Surveillance Report. These forms have minor edits with minor burden change from last OMB approval. Additionally, CDC requests the use of four new forms, Aggregate case counts of persons exposed to Highly Pathogenic Avian Influenza (HPAI), Pediatric Hepatitis of Unknown Etiology Medical Record Abstraction Short Form, Pediatric Hepatitis of Unknown Etiology Medical Record Abstraction Form (CRF) and Arthropod (Vector)-Borne Diseases (Non-Human Data). The data from the new forms will enable rapid detection and characterization of outbreaks of known pathogens, as well as potential newly emerging viral pathogens.

The frequency of response for each form will depend on the disease and surveillance need. This represents an increase of 2,657 burden hours since last approval. This change in burden hours is attributed primarily to the discontinuation of previously approved forms, formatting changes to existing forms, and the addition of four new forms. The total burden estimate for all collection instruments in this reinstatement request is 27,458. There is no cost to respondents other than their time.

Estimated Annualized Burden Hours
Type of respondent | Form name | Number of respondents | Number of responses per respondent | Average burden per response (in hr)
Epidemiologist | Attachment E—WHO Collaborating center for Influenza—Influenza Virus Surveillance | 47 | 52 | 10/60
Epidemiologist | Attachment F—U.S. WHO Collaborating Laboratories Influenza Testing Methods Assessment | 113 | 1 | 10/60
Epidemiologist | Attachment H-US Outpatient Influenza-like Illness Surveillance Network (ILINet) Workfolder 55.20E | 1800 | 52 | 10/60
Epidemiologist | Attachment J—Influenza-Associated Pediatric Mortality—Case Report Form | 57 | 2 | 30/60
Epidemiologist | Attachment K—Human Infection with Novel Influenza A Virus Case Report Form | 57 | 2 | 30/60
Epidemiologist | Attachment M—Human Infection with Novel Influenza A Virus Severe Outcomes | 57 | 1 | 90/60
Epidemiologist | Attachment P—Novel Influenza A Virus Case Screening Form | 57 | 1 | 15/60
Epidemiologist | Attachment T—Antiviral Resistant Influenza Infection Case Report Form | 57 | 3 | 30/60
Epidemiologist | Attachment U—National Respiratory & Enteric Virus Surveillance System (NREVSS) (55.83A, B, D) (electronic) | 550 | 52 | 15/60
Epidemiologist | Attachment V—National Enterovirus Surveillance Report: (CDC 55.9) (electronic) | 20 | 12 | 15/60
Epidemiologist | Attachment W—National Adenovirus Type Reporting System (NATRS) | 13 | 4 | 15/60
Epidemiologist | Attachment X—Middle East Respiratory Syndrome (MERS) Patient Under Investigation (PUI) Short Form | 57 | 3 | 25/60
Epidemiologist | Attachment Y—Viral Gastroenteritis Outbreak Submission Form | 20 | 5 | 5/60
Epidemiologist | Attachment AA—Influenza Virus (Electronic, Year Round), PHLIP_HL7 messaging Data Elements | 57 | 52 | 5/60
Epidemiologist | Attachment BB—Influenza virus (electronic, year round) (PHIN-MS) | 3 | 52 | 5/60
Epidemiologist | Attachment CC—Suspect Respiratory Virus Patient Form | 10 | 5 | 30/60
Epidemiologist | Attachment EE, Aggregate counts of persons exposed to Highly Pathogenic Avian Influenza (HPAI) | 52 | 52 | 10/60
Epidemiologist | Attachment FF, Pediatric Hepatitis of Unknown Etiology Medical Record Abstraction Short Form | 52 | 4 | 15/60
Epidemiologist | Attachment GG, Pediatric Hepatitis of Unknown Etiology Medical Record Abstraction Form (CRF) | 52 | 2 | 45/60
Epidemiologist | Attachment HH, Arthropod (Vector)-Borne Diseases (Non-Human Data) | 57 | 52 | 60/60

Jeffrey M. Zirger,
Lead, Information Collection Review Office, Office of Scientific Integrity, Office of Science, Centers for Disease Control and Prevention.

[FR Doc. 2023-01667 Filed 1-26-23; 8:45 am]

BILLING CODE 4163-18-P